DEPARTMENT OF STATE

[Public Notice 4262]

Fine Arts Committee; Notice of Meeting

The Fine Arts Committee of the Department of State will meet on Friday, March 28, 2003, at 2:30 p.m. in the Diplomatic Reception Rooms. The meeting will last until approximately 3:30 p.m. and is open to the public.

The agenda for the committee meeting will include a summary of the work of the Fine Arts Office since its last meeting on October 18, 2002 and the announcement of gifts and loans of furnishings as well as financial contributions from January 1, 2002 through December 31, 2002.

Public access to the Department of State is strictly controlled. Members of the public wishing to take part in the meeting should telephone the Fine Arts Office by March 12, 2003, telephone (202) 647-1990 to make arrangements to enter the building. The pubic may take part in the discussion as long as time permits and at discretion of the chairman.

Dated: February 17, 2003.
Gail F. Serfaty,
Secretary, Fine Arts Committee, Department of State.

[FR Doc. 03-4907 Filed 2-28-03; 8:45 am]

BILLING CODE 4710-38-P